DEPARTMENT OF DEFENSE

Office of the Secretary

Defense Science Board

AGENCY: Department of Defense.

ACTION: Notice of advisory committee meeting.

SUMMARY: The Defense Science Board Task Force on Contributions of Space Based Radar to Missile Defense will meet in closed session on March 19, 2004, at the Institute for Defense Analyses, 1801 N. Beauregard Street, Alexandria, VA. This Task Force will assess potential contributions of Space Based Radar (SBR) to missile defense.

The mission of the Defense Science Board is to advise the Secretary of Defense and the Under Secretary of Defense for Acquisition, Technology & Logistics on scientific and technical matters as they affect the perceived needs of the Department of Defense. This Task Force will: Assess the impact of adding a missile defense mission on the ability of SBR satellites to conduct their primary missions; assess how different SBR architectures and technical approaches might affect the ability of the satellites to achieve their primary missions and to contribute to missile defense; assess the value of potential SBR capabilities in the context of the family of sensors being developed by the Missile Defense Agency; and recommend any future actions that might be desirable related to SBR contributions to missile defense.

In accordance with section 10(d) of the Federal Advisory Committee Act, Pub. L. 92-463, as amended (5 U.S.C. app. II), it has been determined that these Defense Science Board Task Force meetings concern matters listed in 5 U.S.C. 552b(c)(1) and that, accordingly, these meetings will be closed to the public.

Due to scheduling difficulties, there is insufficient time to provide timely notice required by section 10(a)(2) of the Federal Advisory Committee Act and subsection 101-6.1015(b) of the GSA Final Rule on Federal Advisory Committee Management, 41 CFR part 101-6, which further requires publication at least 15 calendar days prior to the meeting of the Task Force.

Dated: March 5, 2004.
L.M. Bynum,
Alternate OSD Federal Register Liaison Officer, Department of Defense.

[FR Doc. 04-5462 Filed 3-10-04; 8:45 am]

BILLING CODE 5001-06-M